DEPARTMENT OF TRANSPORTATION

Federal Railroad Administration

[Docket Number FRA-2005-21613]

Petition for Waiver of Compliance

In accordance with Part 211 of Title 49 of the Code of Federal Regulations (CFR), this document provides the public notice that by a document dated April 26, 2011, and an amending document dated May 3, 2011, the Association of American Railroads (AAR) has petitioned the Federal Railroad Administration (FRA) for a waiver of compliance from certain provisions of the Federal railroad safety regulations contained at 49 CFR Part 229. FRA assigned the petition Docket Number FRA-2005-21613.

FRA granted an extension of waiver Docket Number FRA-2005-21613 to AAR on May 3, 2011, continuing an extensive testing and inspection program to determine extended clean, repair and test intervals for air brake valves and related components as required by the Railroad Locomotive Safety Standards at 49 CFR 229.27 Annual tests and 229.29 Biannual tests. Fourteen (14) separate groups of locomotives were identified for investigation in the waiver approval letter. Among the variables between groups are the model of electronic airbrake system used on the locomotives and whether the group of locomotives was manufactured by General Electric (GE) or ElectroMotive Diesel (EMD). AAR has now submitted additional requests for modification of this waiver. The first request is to add locomotives equipped with New York Air Brake (NYAB) CCB-26 model brake systems in the same group as locomotives equipped with CCB-II brake systems. Also, AAR has requested that the distinction between locomotive manufacturers be dropped, thus reducing the number of groups to be tested.

In support of this petition, AAR submitted supporting documentation from NYAB attesting to the essential similarity of the CCB-26 brake system to the CCB-II brake system already covered under the waiver. In addition, AAR states that testing performed to date under this waiver has allayed concerns that air brake system performance would vary between EMD and GE locomotives.

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by July 29, 2011will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on June 9, 2011.
Robert C. Lauby,
Deputy Associate Administrator for Regulatory & Legislative Operations.

[FR Doc. 2011-14731 Filed 6-13-11; 8:45 am]

BILLING CODE 4910-06-P